SUSQUEHANNA RIVER BASIN COMMISSION

Grandfathering Registration Notice

AGENCY: Susquehanna River Basin Commission.

ACTION: Notice.

SUMMARY: This notice lists Grandfathering Registration for projects by the Susquehanna River Basin Commission during the period set forth in DATES.

DATES: March 1-31, 2025.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.gov. Regular mail inquiries may be sent to the above address.

SUPPLEMENTARY INFORMATION: This notice lists GF Registration for projects, described below, pursuant to 18 CFR part 806, subpart E, for the time period specified above:

1. Village of Candor, GF Certificate No. GF-202503290, Village of Candor, Tioga County, N.Y.; Morrow Well, Ward Well, and combined withdrawals from the Morrow Well and Ward Well; Issue Date: March 7, 2025.

2. Huntsinger Farms, Inc., GF Certificate No. GF-202503291, Hegins and Hubley Townships, Schuylkill County, Pa.; Deep Creek 1, Deep Creek 2, Pine Creek 1, Pine Creek 2, and Monroes Pond; Reissue Date: March 13, 2025.

Authority: Public Law 91-575, 84 Stat. 1509 et seq., 18 CFR parts 806 and 808.

Dated: April 7, 2025.
Jason E. Oyler,
General Counsel and Secretary to the Commission.

[FR Doc. 2025-06132 Filed 4-9-25; 8:45 am]

BILLING CODE 7040-01-P